DEPARTMENT OF TRANSPORTATION

National Highway Traffic Safety Administration

Denial of Motor Vehicle Defect Petition

AGENCY: National Highway Traffic Safety Administration (NHTSA), Department of Transportation.

ACTION: Denial of petition for a defect investigation.

SUMMARY: This notice sets forth the reasons for the denial of a petition submitted by Mr. Brad Lamb to NHTSA's Office of Defects Investigation (ODI), received December 2, 2005, under 49 U.S.C. 30162, requesting that the agency commence a proceeding to determine the existence of a defect related to motor vehicle safety with respect to the parking brakes on: (1) Model year (MY) 1999-2003 Chevrolet Silverado and GMC Sierra pickup trucks; (2) MY 2002-2003 Cadillac Escalade and Chevrolet Avalanche sport-utility vehicles (SUV); and (3) MY 2000-2003 Chevrolet Suburban/Tahoe and GMC Yukon SUV. After a review of the petition and other information, NHTSA has concluded that further expenditure of the agency's investigative resources on the issues raised by the petition does not appear to be warranted. The agency accordingly has denied the petition. The petition is hereinafter identified as DP05-009.

FOR FURTHER INFORMATION CONTACT: Mr. Gregory Magno, Defects Assessment Division, Office of Defects Investigation, NHTSA, 400 Seventh Street, SW., Washington, DC 20590. Telephone: (202) 366-5226.

SUPPLEMENTARY INFORMATION: On December 2, 2005, NHTSA received a petition from Mr. Brad Lamb, the Executive Director of North Carolina Consumers Council, Inc. (NCCC), requesting that the agency investigate parking brake failures on the aforementioned vehicles. The petitioner stated that NCCC is a non-profit consumer advocacy group with thousands of members across North Carolina and the nation, and that NCCC has received complaints regarding repeated parking brake failures in the aforementioned vehicles, several of which allege that the redesigned clip intended to remedy the problem is failing too.

The concern raised by the petitioner was investigated by the Office of Defects Investigation (ODI) of NHTSA, initially as a Preliminary Evaluation (PE03-057), which was opened on December 8, 2003, on MY 1999-2003 Chevrolet Silverado and GMC Sierra 1500 series pickups with manual transmissions. PE03-057 was later upgraded to an Engineering Analysis (EA04-011) on April 9, 2004. During the investigation, ODI collected data concerning the manual transmission-equipped Silverado/Sierra pickups and millions of peer vehicles that included half ton pickup trucks manufactured by Ford Motor Company (Ford) and DaimlerChrysler Corporation, as well as all MY 1999-2004 automatic transmission-equipped General Motors Corporation (GM) C/K pickups and sport-utility vehicles based on the same platform as that used in the Silverado/Sierra 1500 series pickups.

On April 20, 2005, GM notified NHTSA by letter that it had decided to recall (NHTSA Recall No. 05V-161) MY 1999-2002 ¹ Silverado/Sierra 1500 series pickups with manual transmissions to install a low-force spring clip retainer in the parking brake system supplied by PBR International, and MY 2001-2005 Silverado/Sierra 2500 and 3500 series pickups with manual transmissions to install a redesigned parking brake cable in the parking brake system supplied by TRW Automotive. The remedies were necessary to correct the conditions that cause the friction linings to wear to an extent where the parking brakes can become ineffective in immobilizing a parked vehicle. Similar GM vehicles built on the same platforms with automatic transmissions were not recalled because ODI's extensive study conducted during the investigation indicated that they had a roll-away event rate less than one fiftieth (1/50) of the rate for the recalled vehicles (equipped with manual transmissions) and that the rate was also similar to peer vehicles with automatic transmissions manufactured by Ford and DaimlerChrysler Corporation. Automatic transmission reduces unattended roll-aways because of the presence of a mechanical “park pawl” that immobilizes the drivetrain when the transmission is placed in park.

¹ MY 2003 Silverado/Sierra pickups were not included in recall because they already utilized the low force clip.

ODI received sixty-five (65) consumer complaints concerning the parking brake systems in MY 1999-2003 half ton pickups after EA04-011 was closed. Of these 65 vehicles, three were equipped with manual transmissions, sixty one (61) were equipped with automatic transmissions, and one was equipped with an unknown transmission type. The only alleged roll-away event involved a MY 2002 Chevrolet Silverado 1500 series 4-wheel drive pickup with an automatic transmission. The complainant indicated that he parked the vehicle on his sloped driveway and set the parking brakes. However, he also had the 4-wheel drive transfer case shifted to “N” (normally used only when the vehicle is being towed) which allowed all four wheels to rotate even with the automatic transmission in the “Park” position.

ODI received a total of thirty-three (33) consumer complaints on the parking brake system used in the MY 2002-2003 Cadillac Escalade and Chevrolet Avalanche SUV. Of the 33 consumer complaints, only nine were received after EA04-011 was closed on May 10, 2005 and none of these nine complaints involved a roll-away event. Only automatic transmissions were used in these vehicles.

ODI received a total of one hundred and eighty-one (181) consumer complaints concerning the parking brake system used in the MY 2000-2003 Chevrolet Suburban/Tahoe and GMC Yukon SUV. Of these 181 complaints, forty-four (44) were received after EA04-011 was closed and none of these 44 complaints involved a roll-away event. Only automatic transmissions were used in these vehicles.

With respect to the effectiveness of the redesigned clip in extending parking brake lining life, ODI identified very few complaints during EA04-011 that cited a parking brake failure after installation of the newer clip. Likewise, parking brake wear-out complaint figures pertaining to newer (MY 2003-2004 half ton) vehicles that incorporated the clip at the original equipment level were and are significantly lower. This is consistent with data furnished by GM during EA04-011 that support the conclusion that the redesigned clip will contribute to a significantly longer parking brake lining life.

To summarize, GM's recall remedies with regard to the Silverado and Sierra vehicles appear to be effective with regard to the safety problem outlined in the petition as ODI has received only one parking brake complaint on the recalled vehicles (equipped with a manual transmission) since the investigation was closed (this vehicle did receive the recall remedy in mid August 2005). All the other model vehicles (Cadillac Escalade, Chevrolet Avalanche, Suburban, Tahoe, and GMC Yukon) involved in the petition were equipped only with automatic transmissions, which present a substantially lower safety risk in the event of parking brake failure than vehicles with manual transmissions, and, to our knowledge, have not been involved in roll-away events. The downward trend in the number of consumer complaints since the closing of the investigation and the lack of any roll-away trend are further reasons that the vehicles equipped with automatic transmissions do not warrant an investigation at this time.

In view of the foregoing, it is unlikely that NHTSA would issue an order for the notification and remedy of the alleged defect as defined by the petitioner at the conclusion of the investigation requested in the petition. Therefore, in view of the need to allocate and prioritize NHTSA's limited resources to best accomplish the agency's safety mission, the petition is denied.

Authority: 49 U.S.C. 30162(d); delegations of authority at CFR 1.50 and 501.8.

Daniel Smith,
Associate Administrator for Enforcement.

[FR Doc. E6-8151 Filed 5-25-06; 8:45 am]

BILLING CODE 4910-59-P